DEPARTMENT OF THE INTERIOR

Fish and Wildlife Service

Availability of an Environmental Assessment and Receipt of an Application for an Incidental Take Permit for the El Sobrante Landfill Expansion Project in an Unincorporated Area of Riverside County, California.

AGENCY: Fish and Wildlife Service.

ACTION: Notice of Availability and Receipt of Application.

SUMMARY: USA Waste (Applicant) has applied to the Fish and Wildlife Service for an incidental take permit (ITP) pursuant to section 10(a)(1)(B) of the Endangered Species Act of 1973, as amended. The Service proposes to issue an 80-year permit to the Applicant that would authorize take of the coastal California gnatcatcher (Polioptila californica californica), Stephens' Kangaroo Rat (Dipodomys stephensi), and 27 additional unlisted species incidental to otherwise lawful activities. Such take would occur during the construction of new phases of the El Sobrante Landfill, including landfill excavation and site preparation, operations, facilities, maintenance activities, fire management, and post-closure landfill activities. Project construction would be performed by the Applicant during the phased expansion and 30-year post-closure period of the landfill. This project would temporarily remove 450 acres of occupied Riversidean sage scrub habitat for the coastal California gnatcatcher and other sage scrub dependent covered species, and permanently remove 41 acres of occupied grassland habitat for the Stephens' kangaroo rat and other grassland dependent covered species. In addition, 3 acres of juniper woodland scrub would be permanently removed, and 5 acres of riparian habitat would be temporarily impacted.

We request comments from the public on the permit application and Environmental Assessment, which are available for review. The permit application includes the proposed Habitat Conservation Plan (HCP) and an accompanying Implementing Agreement (legal contract). The HCP describes the proposed project and the measures that the Applicant would undertake to minimize and mitigate take of the covered species.

This notice is provided pursuant to section 10(a) of the Endangered Species Act and National Environmental Policy Act regulations (40 CFR 1506.6). All comments received, including names and addresses, will become part of the official administrative record and may be made available to the public.

DATES: Written comments should be received on or before June 18, 2001.

ADDRESSES: Written comments should be addressed to Mr. Jim Bartel, Assistant Field Supervisor, Fish and Wildlife Service, 2730 Loker Avenue West, Carlsbad, California 92008. Comments may also be sent by facsimile to (760) 930-0846.

FOR FURTHER INFORMATION CONTACT: Daniel Brown, Fish and Wildlife Biologist, at the above address or call (760) 431-9440.

SUPPLEMENTARY INFORMATION:

Availability of Documents

You may obtain copies of these documents for review by contacting the above office. Documents also will be available for public inspection, by appointment, during normal business hours at the above address.

Background

Section 9 of the Endangered Species Act and Federal regulation prohibit the “take” of fish or wildlife species listed as endangered or threatened, respectively. Take of listed fish or wildlife is defined under the Act to include kill, harm, or harass. The Service may, under limited circumstances, issue permits to authorize incidental take; i.e., take that is incidental to, and not the purpose of, the carrying out of an otherwise lawful activity. Regulations governing ITPs for threatened and endangered species are found in 50 CFR 17.32 and 17.22, respectively.

The Applicant has proposed an expansion of an existing landfill in an unincorporated area of western Riverside County, California. Land uses in the area surrounding the project site include a clay mine, a green-waste recycling facility, the Lake Mathews-Estelle Mountain Core Reserve, and undeveloped Riversidean sage scrub habitat in private holdings.

Biologists surveyed the project sites for special-status plants and wildlife in 1992, 1993, 1997, 1999, and 2000. Based on these surveys and previous knowledge of the area, the Service concluded that the project may result in the take of two federally listed species, the endangered Stephens' kangaroo rat and threatened coastal California gnatcatcher.

The Applicants propose to implement the following measures to minimize and mitigate take of the Stephens' kangaroo rat: (1) Conserve and provide for perpetual management of occupied grassland habitat within the Undisturbed Open Space and movement corridors across restored Riversidean sage scrub habitat; (2) locate staging areas outside of Undisturbed Open Space; (3) restore Riversidean sage scrub habitat to accommodate suitable burrow and forage sites; (4) maintain restored Riversidean sage scrub areas in such a manner as to avoid direct harm to individuals; (5) manage conserved habitat to control the spread of non-native weeds; (6) direct lighting in the active portions of the landfill away from natural areas; (7) limit activities in conserved habitat to those identified in the HCP; (8) and control access to deter poaching, off-road vehicle use, and other activities by trespassers.

The Applicants propose to implement the following measures to minimize and mitigate take of the coastal California gnatcatcher: (1) no direct harm to nesting birds, nests, eggs, and young would be permitted; (2) impacts and restoration would be phased so that there would always be a minimum of approximately 700 acres of Riversidean sage scrub habitat in the Plan Area; (3) the mix of plant types in the restored Riversidean sage scrub would be based on reference sites in the Plan Area; (4) the Undisturbed Open Space would provide a source population for the restored habitat; (5) restored habitat would be monitored for presence of the species, and contingency measures would be implemented if the species is not found in restored Riversidean sage scrub habitat; and (6) all restored and existing habitat in the Plan Area would be managed for the benefit of this species. The species will benefit from the connectivity with the existing Lake Mathews-Estelle Mountain Core Reserve. Based on previous efforts to restore Riversidean sage scrub habitat in the region, the species is expected to re-colonize the restored habitat.

The HCP and the Environmental Assessment consider four alternatives to the Proposed Action: (1) The Reduced Capacity alternative, (2) the Conserved Final Phase alternative, (3) the Offsite Mitigation alternative, and (4) the No Action alternative.

The Reduced Capacity alternative would also require approval of a HCP and the issuance of an ITP. This alternative would eliminate impacts to habitat and species on 115 acres associated with Phase XV of the landfill expansion. The excluded lands would not be covered by the ITP and would not be covered or managed by the HCP. Otherwise, the conservation measures are essentially the same as those under the Proposed Action.

The Conserved Final Phase alternative would also require approval of a HCP and the issuance of an ITP. This alternative would provide conservation and management of undisturbed habitat and species on 115 acres and eliminate Phase XV of the landfill expansion. More existing habitat would be conserved under this alternative than under the Proposed Action.

The Offsite Mitigation alternative would also require approval of a HCP and the issuance of an ITP. This alternative would provide conservation and management of undisturbed habitat and species at a location approved by the Fish and Wildlife Service within western Riverside County. No restoration of Riversidean sage scrub would be provided under this alternative.

Under the No Action Alternative, the Fish and Wildlife Service would not issue a permit, the existing conditions would continue, listed and unlisted species would remain or become protected under the Endangered Species Act or California Fish and Game Code, unlisted species would be indirectly protected where they occur in habitat occupied by listed species or subject to wetland regulations, and another disposal site would be needed to accommodate the region's municipal solid waste. All four alternatives would result in less conserved habitat managed for the covered species than mitigation proposed under the Proposed Action.

This notice is provided pursuant to section 10(a) of the Endangered Species Act and the National Environmental Policy Act of 1969 regulations (40 CFR 1506.6). We will evaluate the application, associated documents, and comments submitted thereon to determine whether the application meets the requirements of the National Environmental Policy Act regulations and section 10(a) of the Endangered Species Act. If we determine that those requirements are met, then we will issue a permit to the Applicants for the incidental take of the Stephens' kangaroo rat, coastal California gnatcatcher, and 27 unlisted species if those species were to become listed during the life of the permit. Our final permit decision will be made no sooner than 60 days from the date of this notice.

Mary Ellen Mueller,
Deputy Manager, California/Nevada Operations Office, Fish and Wildlife Service, Sacramento, California

[FR Doc. 01-9518 Filed 4-16-01; 8:45 am]

BILLING CODE 4310-55-P